DEPARTMENT OF THE INTERIOR

National Park Service

[NPS-WASO-NAGPRA-NPS0037167; PPWOCRADN0-PCU00RP14.R50000]

Notice of Inventory Completion: San Jose State University, San Jose, CA

AGENCY: National Park Service, Interior.

ACTION: Notice.

SUMMARY: In accordance with the Native American Graves Protection and Repatriation Act (NAGPRA), San Jose State University (SJSU) has completed an inventory of human remains and associated funerary objects and has determined that there is no cultural affiliation between the human remains and associated funerary objects and any federally recognized Indian Tribe. The human remains and associated funerary objects were removed from Alameda County, CA.

DATES: Disposition of the human remains and associated funerary objects in this notice may occur on or after February 2, 2024.

ADDRESSES: Charlotte Sunseri, Ph.D., San Jose State University, One Washington Square, San Jose, CA 95192-0113, telephone (408) 924-5713, email charlotte.sunseri@sjsu.edu.

SUPPLEMENTARY INFORMATION: This notice is published as part of the National Park Service's administrative responsibilities under NAGPRA. The determinations in this notice are the sole responsibility of San Jose State University. The National Park Service is not responsible for the determinations in this notice. Additional information on the determinations in this notice, including the results of consultation, can be found in the inventory or related records held by San Jose State University.

Description

Human remains representing, at minimum, five individuals were removed from Alameda County, CA. The CA-ALA-342 collection includes human remains which were excavated by a team from Ohlone College. The one box of associated funerary objects is comprised of faunal shell. The collection was inadvertently left behind when the rest of the human remains were returned to Ohlone College and then subsequently reburied by Andrew Galvan of the Ohlone Tribe. The Niles/Alvarado Ancestor (George Herbert Collection) was donated to San Jose State University by George Herbert; documentation supports that the remains were excavated by an unknown college in 1940-1950s from the Alvarado area (present-day Union City).

Aboriginal Land

The human remains and associated funerary objects in this notice were removed from known geographic locations. These locations are the aboriginal lands of one or more Federally recognized Indian Tribes. These locations are also the aboriginal lands of the Ohlone/Costanoan Tribes recognized by the State. The following information was used to identify the aboriginal land: California Native American Heritage Commission Native American Contact List for implementing AB275 (dated: 9/30/2021), Unratified Treaty E “Treaty at Dent's and Valentine's Crossing (May 28, 1851)” (Heizer 1972).

Determinations

Pursuant to NAGPRA and its implementing regulations, and after consultation with the appropriate Indian Tribes, San Jose State University has determined that:

• The human remains described in this notice represent the physical remains of five individuals of Native American ancestry.

• The one box of associated funerary objects described in this notice is reasonably believed to have been placed with or near individual human remains at the time of death or later as part of the death rite or ceremony.

• No relationship of shared group identity can be reasonably traced between the human remains and associated funerary objects and any federally-recognized Indian Tribe.

• The human remains and associated funerary objects described in this notice were removed from the aboriginal land of the Wilton Rancheria, California.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after February 2, 2024. If competing requests for disposition are received, San Jose State University must determine the most appropriate requestor prior to disposition. Requests for joint disposition of the human remains and associated funerary objects are considered a single request and not competing requests. San Jose State University is responsible for sending a copy of this notice to the Indian Tribes identified in this notice.

Authority: Native American Graves Protection and Repatriation Act, 25 U.S.C. 3003, and the implementing regulations, 43 CFR 10.9 and 10.11.

Dated: December 20, 2023.
Melanie O'Brien,
Manager, National NAGPRA Program.

[FR Doc. 2023-28922 Filed 1-2-24; 8:45 am]

BILLING CODE 4312-52-P